DEPARTMENT OF TRANSPORTATION

National Highway Traffic Safety Administration

49 CFR Part 571

[Docket No. NHTSA-2023-0021]

RIN 2127-AM37

Federal Motor Vehicle Safety Standards; Automatic Emergency Braking Systems for Light Vehicles

AGENCY: National Highway Traffic Safety Administration (NHTSA), Department of Transportation (DOT).

ACTION: Final rule; delay of effective date.

SUMMARY: This document delays the effective date of the November 26, 2024 final rule partially granting petitions for reconsideration of a May 9, 2024 final rule that adopted Federal Motor Vehicle Safety Standard (FMVSS) No. 127, “Automatic Emergency Braking for Light Vehicles,” which requires automatic emergency braking (AEB), pedestrian automatic emergency braking (PAEB), and forward collision warning (FCW) systems on all new light vehicles.

DATES: The effective date of the rule amending 49 CFR 571.127 published on November 26, 2024 is delayed until March 20, 2025.

ADDRESSES: Correspondence related to this rule should refer to the docket number set forth above (NHTSA-2023-0021) and be submitted to the Administrator, National Highway Traffic Safety Administration, 1200 New Jersey Avenue SE, Washington, DC 20590.

FOR FURTHER INFORMATION CONTACT:

For technical issues: Mr. Markus Price, Office of Crash Avoidance Standards, Telephone: (202) 366-1810, Facsimile: (202) 366-7002.

For legal issues: Mr. Eli Wachtel, Office of the Chief Counsel, Telephone: (202) 366-2992, Facsimile: (202) 366-3820. The mailing address for these officials is: National Highway Traffic Safety Administration, 1200 New Jersey Avenue SE, Washington, DC 20590.

SUPPLEMENTARY INFORMATION: In accordance with the memorandum of January 20, 2025, from the President to executive departments and agencies, entitled “Regulatory Freeze Pending Review,” ¹ this action temporarily delays the effective date of the rule entitled “Federal Motor Vehicle Safety Standards; Automatic Emergency Braking Systems for Light Vehicles,” published in the Federal Register on November 26, 2024, at 89 FR 93199.² That rule made clarifying changes to the regulatory text of FMVSS No. 127 in response to petitions for reconsideration of the rule published May 9, 2024 titled “Federal Motor Vehicle Safety Standards; Automatic Emergency Braking Systems for Light Vehicles” filed by the Alliance for Automotive Innovation (the Alliance), Toyota Motor North America, Volkswagen Group of America, and Scuderia Cameron Glickenhaus, LLC, as well as a petition, treated by NHTSA as a petition for rulemaking, from Autotalks. It also denied several changes requested by petitioners.

¹ Available at https://www.whitehouse.gov/presidential-actions/2025/01/regulatory-freeze-pending-review/ (last accessed Jan. 22, 2025)

² On Dec. 11, 2024, a correction notice was published which corrected a typographical error in the amendatory instruction. This notice did not change the effective date of the rule. 89 FR 99732.

This action is exempt from notice and comment under 5 U.S.C. 553 and is effective immediately upon publication today in the Federal Register, based on the good cause exceptions in 5 U.S.C. 553(b)(B) and 553(d)(3), respectively. Seeking public comment is impracticable, unnecessary, and contrary to the public interest. The temporary delay in effective date is necessary to give Department officials the opportunity for further review and consideration of new regulations, consistent with the President's memorandum of January 20, 2025. Given the imminence of the effective date, seeking prior public comment on this temporary delay would have been impractical, as well as contrary to the public interest in the orderly promulgation and implementation of regulations. The imminence of the effective date is also good cause for making this action effective immediately upon publication.

Issued in Washington, DC, under authority delegated in 49 CFR 1.95 and 501.5.
Peter Simshauser,
Chief Counsel.

[FR Doc. 2025-01832 Filed 1-23-25; 4:15 pm]

BILLING CODE 4910-59-P